NUCLEAR WASTE TECHNICAL REVIEW BOARD

Notice of Workshop on Recent Advances in Repository Science and Operations From International Underground Research Laboratory Collaborations

Pursuant to its authority under section 5051 of Public Law 100-203, Nuclear Waste Policy Amendments Act (NWPAA) of 1987, the U.S. Nuclear Waste Technical Review Board will hold a workshop on Wednesday, April 24, and Thursday, April 25, 2019, on recent advances in repository science and operations from international underground research laboratory (URL) collaborations. Several countries, including Belgium, Canada, Finland, France, Germany, Japan, Korea, Sweden, Switzerland, and the United States, have operated URLs to support the development of deep geologic repositories for the disposal of high-level radioactive waste (HLW) and spent nuclear fuel (SNF). URLs enable research and technology development activities to be conducted under conditions prototypical of repository environments. The workshop objectives are to review DOE research and development (R&D) activities that are underway or planned and to elicit information that will be useful to the Board in its review and to DOE in its implementation of those R&D activities. The discussions of international experiences will focus on unique learning opportunities and recent advances in the scientific understanding of the long-term performance, and the technology and operation, of geologic repositories for HLW and SNF based on studies that have been performed in URLs.

The workshop will be held at the Embassy Suites San Francisco Airport—Waterfront, 150 Anza Blvd., Burlingame, CA 94010. The hotel telephone number is (650) 342-4600. The workshop will begin on Wednesday, April 24, at 8:00 a.m. with a series of presentations on international URL programs, including those in France, Sweden, Switzerland, and the United Kingdom. These presentations will be followed by a facilitated panel discussion regarding international URL programs. Then DOE representatives will make a presentation giving an overview of DOE's geologic disposal R&D program and its integration with international URL research. The rest of the two-day workshop will include presentations on DOE's URL-related R&D activities, focusing on natural barriers, engineered barrier integrity, hydrologic flow and radionuclide transport, and integrated system behavior. A poster session is scheduled immediately following the last presentation on the first day of the workshop. On the second day of the workshop, a final plenary session will identify key issues and lessons learned from URL R&D programs. The workshop is scheduled to end at approximately 5:00 p.m. on Thursday, April 25.

The workshop will be open to the public, and opportunities for public comment will be provided before the end of each day. Those wanting to speak are encouraged to sign the Public Comment Register at the check-in table; those wishing to speak will do so in the order in which they signed up. Depending on the number of people who sign up to speak, it may be necessary to set a time limit on individual remarks. However, written comments of any length may be submitted, and all comments received in writing will be included in the record of the workshop, which will be posted on the Board's website. The workshop will be webcast, and the link to the webcast will be available on the Board's website (www.nwtrb.gov) a few days before the workshop. An archived version of the webcast will be available on the Board's website following the workshop. The transcript of the workshop will be available on the Board's website by July 31, 2019.

The Board was established in the Nuclear Waste Policy Amendments Act of 1987 as an independent federal agency in the Executive Branch to evaluate the technical and scientific validity of DOE activities related to the management and disposal of SNF and HLW and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the workshop agenda, contact Bret Leslie: leslie@nwtrb.gov or Roberto Pabalan: pabalan@nwtrb.gov. For information on logistics, or to request copies of the workshop agenda or transcript, contact Davonya Barnes: barnes@nwtrb.gov. All three may be reached by mail at 2300 Clarendon Boulevard, Suite 1300, Arlington, VA 22201-3367; by telephone at 703-235-4473; or by fax at 703-235-4495.

Dated: March 7, 2019.
Nigel Mote,
Executive Director, U.S. Nuclear Waste Technical Review Board.

[FR Doc. 2019-04505 Filed 3-12-19; 8:45 am]

BILLING CODE 6820-AM-P